DEPARTMENT OF THE INTERIOR

National Park Service

Restoring Native Species to High Elevation Aquatic Ecosystems; Sequoia and Kings Canyon National Parks, Tulare and Fresno Counties, CA; Notice of Intent To Prepare an Environmental Impact Statement

SUMMARY: In accordance with § 102(2)(C) of the National Environmental Policy Act of 1969, as amended (NEPA), the National Park Service is initiating the conservation planning and environmental impact analysis process for a plan to restore high elevation aquatic ecosystems and mountain yellow-legged frogs within their historic range in Sequoia and Kings Canyon National Parks. In addition to satisfying the requirements and intent of the NEPA, the Environmental Impact Statement which will be prepared will comply with the California Environmental Quality Act (CEQA) and thus will result in an integrated Environmental Impact Statement/Environmental Impact Report (EIS/EIR) document.

The purpose of the plan is to provide for restoration of native species in lakes, ponds, and associated streams within Sequoia and Kings Canyon National Parks. There are approximately 560 lakes and ponds within the Parks that contained introduced trout, and removal of these non-native species from up to 14% of these sites will be considered. This proposed plan would create clusters of fishless habitat in headwater basins comprising the historic distribution of the frogs. This project is needed to preserve and restore aquatic ecosystems and populations of mountain yellow-legged frogs and other native animals in high elevation lakes and streams, while also creating new opportunities for visitors to experience the wildlife of pristine wilderness lakes and streams yet maintaining recreational fishing opportunities.

Introduced trout occur in most lakes and ponds in Sequoia and Kings Canyon National Parks. The presence of introduced trout eliminates large aquatic invertebrates and zooplankton, reduces the food available to other wildlife, and compromises reproduction by mountain yellow-legged frogs. The mountain yellow-legged frog is a species that only occurs in the high Sierra Nevada and the mountains of southern California. It is a keystone species whose presence or absence affects the natural ecology of Sierra Nevada lakes and associated shoreline environments. The frog has disappeared from about 94% of its historic sites in the Sierra Nevada and is a candidate for federal listing as “endangered” under the Endangered Species Act. The frog's existence is threatened by impacts from trout populations that were introduced to naturally fishless habitats, and a new pathogen, chytrid fungus. The mountain yellow-legged frog is declining rapidly and could become extinct within a decade.

Preliminary Range of Alternatives: The EIS/EIR will examine a range of feasible alternatives and evaluate all potential impacts on natural resources, cultural resources, and the human environment. Since 2001, biologists in Sequoia and Kings Canyon National Parks have been removing nonnative trout using gill netting and electroshocking from selected naturally fishless high lakes and streams (limited trial under a plan approved in 2001 following public review of an Environmental Assessment); approximately 23,000 trout have been removed from 11 lakes. Mountain yellow-legged frog tadpole and frog densities measured in 2001 and 2007 in six of the restored lakes showed an average increase of 19-fold and 16-fold, with one lake showing a 60-fold increase in frog populations. The biomass recovery in these lakes has attracted native species such as snakes, birds, and mammals, which have been observed preying on now-abundant frogs, tadpoles, and aquatic invertebrates.

The current methodology of physically removing fish using gill nets and electrofishers takes one crew about five seasons to fully remove trout from three lakes. This works out to an average of less than one lake restored per crew per year. Stream habitat is even slower to restore. While nearly completed, the park staff is on its ninth year of attempting to remove fish from about a mile of stream. To restore more aquatic habitat and improve protection for the mountain yellow-legged frogs, the NPS is proposing to expand the current program, both in number of lakes and streams to be considered, and the types of treatment methods to be utilized.

In addition to a “no action” alternative which will provide for a comparative environmental baseline, alternatives that could be considered in the EIS/EIR include: (a) Treating 32 to 80 additional lakes and 18 to 56 miles of stream using current methods (physical treatment only with gill netting and electrofishers); (b) using chemical methods (only use of piscicides); and (c) deploying a combination of these methods. Common to all alternatives would be reintroducing mountain yellow-legged frogs to sites where they have been extirpated using the closest genetic forms available, and continuing to encourage research on the frogs, chytrid fungus and its management, and the ecological functioning of high mountain lakes and streams. Under the new alternatives, some entire headwater basins would be restored to achieve optimal benefit to both aquatic and terrestrial organisms. Piscicides are being considered because the hydrology of entire basins is too complex and extensive to be restored using only gill nets and electrofishers. These basins contain too many miles of stream, marshes, or exceptionally large lakes to effectively accomplish fish removal. Because the effort is directed at restoring entire aquatic ecosystems, long-term protection and restoration of stream and lake invertebrates and other life is as important as restoring the frog populations. Although chytrid fungus could impact these populations, there is some evidence of chytrid resistance emerging in sites that had large frog populations prior to infection.

Scoping Process: Initially public scoping was conducted from January 17 to February 6, 2007, and it was anticipated another Environmental Assessment (EA) might be prepared. During that time, the parks received comments from over 30 different sources, including the High Sierra Hikers Association, Wilderness Watch, California Trout, Californians for Western Wilderness, National Parks and Conservation Association, and Californians for Alternatives to Toxics. In late 2007, a newsletter providing an update on the environmental analysis status was sent to individuals, agencies, interest groups, and tribes on the parks' mailing list including all those who previously provided scoping comments. As a result of the newsletter, four additional comment letters were received between May 2007 and November 2008 (including Western Environmental Law Center and another High Sierra Hikers Association response). In total, 37 different individuals, groups, businesses, or agencies have submitted comments on the proposed plan.

In late 2007 park staff began working on the EA and refining preliminary alternatives—as staff began the environmental analysis and re-examined information provided by the public, it became clear that the project had the potential for significant impacts on the human environment. There was a level of controversy associated with the proposal, potential for uncertainty and both adverse and beneficial consequences, and unique and unforeseeable environmental impacts. For these reasons, in early 2009 the Superintendent determined that an EIS would be prepared.

All scoping comments received to date are included in the official administrative record; the Scoping Summary Report includes all comments and information obtained to date and is available on-line at http://parkplanning.nps.gov/seki. It is not necessary for previous letters to be resubmitted; however if prior respondents have new issues or information they wish to bring forward then new letters should be submitted. For further information contact Nancy Hendricks at (559) 565-3102 or SEKI_planning@nps.gov (address as noted below).

DATES: All written comments must be postmarked or transmitted not later than November 21, 2009. Letters may be mailed or hand delivered to Superintendent, Sequoia and Kings Canyon National Park, 47050 Generals Highway, Three Rivers, CA 93271 (Attn: Aquatic Restoration EIS), or may be sent electronically to http://parkplanning.nps.gov/seki. Before including your address, phone number, e-mail address, or other personal identifying information in your comment, you should be aware that your entire comment—including your personal identifying information—may be made publicly available at any time. While you can ask us in your comment to withhold your personal identifying information from public review, we cannot guarantee that we will be able to do so. As a delegated EIS the official responsible for approval of the High Elevation Aquatic Ecosystems and Native Species Restoration Plan is the Regional Director, Pacific West Region, National Park Service. Subsequently the official responsible for implementing the approved plan would be the Superintendent, Sequoia and Kings Canyon National Parks.

Dated: August 11, 2009.
Jonathan B. Jarvis,
Regional Director, Pacific West Region, National Park Service.

[FR Doc. E9-24148 Filed 10-6-09; 8:45 am]

BILLING CODE 4310-X2-P